NUCLEAR REGULATORY COMMISSION

10 CFR Part 71

RIN 3150-AG71

Compatibility With IAEA Transportation Safety Standards and Other Transportation Safety Amendments; Correction

AGENCY: Nuclear Regulatory Commission.

ACTION: Final rule: correction.

SUMMARY: This document corrects a final rule appearing in the Federal Register on January 26, 2004 (69 FR 3698) amending the regulations governing the packaging and transportation of radioactive materials. This action is necessary to precisely identify provisions that will expire four years after the final rule becomes effective and the date on which that will occur.

EFFECTIVE DATE: The final rule is effective on October 1, 2004. Sections 71.19(a) and 71.20 expire on October 1, 2008.

FOR FURTHER INFORMATION CONTACT: Naiem S. Tanious, Office of Nuclear Material Safety and Safeguards, U.S. Nuclear Regulatory Commission, Washington, DC 20555-0001, telephone (301) 415-6103, e-mail nst@nrc.gov.

1. On page 3698, the effective date is corrected to read as follows: EFFECTIVE DATE: The final rule is effective on October 1, 2004. Sections 71.19(a) and 71.20 expire on October 1, 2008.

2. In § 71.19 paragraph (a)(3) is corrected to read as follows:

§ 71.19 Previously approved package.

(a) * * *

(3) Paragraph (a) of this section expires October 1, 2008.

* * * * *

Dated at Rockville, Maryland, this 4th day of February, 2004.
For the Nuclear Regulatory Commission.
Michael T. Lesar,
Federal Register Liaison Officer.

[FR Doc. 04-2774 Filed 2-9-04; 8:45 am]

BILLING CODE 7590-01-P]